DEPARTMENT OF HOMELAND SECURITY

[Docket No. DHS-2016-0021]

President's National Security Telecommunications Advisory Committee

AGENCY: Department of Homeland Security.

ACTION: Committee Management; Notice of Federal Advisory Committee Meeting.

SUMMARY: The President's National Security Telecommunications Advisory Committee (NSTAC) will meet on Wednesday, May 11, 2016, in Santa Clara, California. The meeting will be open to the public.

DATES: The NSTAC will meet on Wednesday, May 11, 2016, from 12:00 p.m. to 5:00 p.m. Pacific Daylight Time (PDT). Please note that the meeting may close early if the committee has completed its business.

ADDRESSES: The meeting will be held at the Intel Security Executive Briefing Center, 2817 Mission College Boulevard, Santa Clara, California. Due to limited seating, requests to attend in person will be accepted and processed in the order in which they are received. The meeting's proceedings will also be available via Webcast at http://www.live-webcast.com/events/palo-alto-networks/live/player1.htm for those who cannot attend in person. Individuals who intend to participate in the meeting will need to register by sending an email to NSTAC@hq.dhs.gov by 5:00 p.m. Eastern Daylight Time (EDT) on May 6, 2016. For information on facilities or services for individuals with disabilities, or to request special assistance at the meeting, please contact NSTAC@hq.dhs.gov as soon as possible.

Members of the public are invited to provide comment on the issues to be considered by the committee as listed in the SUPPLEMENTARY INFORMATION section below. Associated briefing materials to be discussed at the meeting will be available at www.dhs.gov/nstac for review on May 1, 2016. Comments may be submitted at any time and must be identified by docket number DHS-2016-0021. Comments may be submitted by one of the following methods:

• Federal eRulemaking Portal: http://www.regulations.gov. Follow the instructions for submitting written comments.

• Email: NSTAC@hq.dhs.gov. Include the docket number DHS-2016-0021 in the subject line of the email message.

• Fax: 703-235-5962, Attn: Sandy Benevides.

• Mail: Designated Federal Officer, Stakeholder Engagement and Cyber Infrastructure Resilience Division, National Protection and Programs Directorate, Department of Homeland Security, 245 Murray Lane, Mail Stop 0604, Arlington, VA 20598-0604.

Instructions: All submissions received must include the words “Department of Homeland Security” and the docket number for this action. Comments received will be posted without alteration at www.regulations.gov, including any personal information provided.

Docket: For access to the docket and comments received by the NSTAC, go to www.regulations.gov and enter docket number DHS-2016-0021.

A public comment period will be held during the meeting on Wednesday, May 11, 2016, from 3:30 p.m. to 4:00 p.m. PDT. Speakers who wish to participate in the public comment period must register in advance and can do so by emailing NSTAC@hq.dhs.gov by no later than May 6, 2016, at 5:00 p.m. EDT. Speakers are requested to limit their comments to three minutes. Please note that the public comment period may end before the time indicated, following the last call for comments.

FOR FURTHER INFORMATION CONTACT: Ms. Helen Jackson, NSTAC Designated Federal Officer, Department of Homeland Security, (703) 235-5321 (telephone) or helen.jackson@hq.dhs.gov (email).

SUPPLEMENTARY INFORMATION: Notice of this meeting is given under the Federal Advisory Committee Act, 5 U.S.C. appendix. The NSTAC advises the President on matters related to national security and emergency preparedness (NS/EP) telecommunications policy.

Agenda: The NSTAC will meet on May 11, 2016, to receive keynote addresses on government and industry perspectives regarding emerging technologies. Meeting participants will engage in two panel discussions: One with several notable industry technology leaders on emergent information and communications technologies (ICT) in the private sector; and the other with senior government officials on the government's efforts to adopt emergent ICT in support of its NS/EP functions. Additionally, the NSTAC members will receive an update on the NSTAC Emerging Technologies Strategic Vision Subcommittee's study of emerging ICT, as well as deliberate and vote on the NSTAC Report to the President on Big Data Analytics. Lastly, the Department of Homeland Security will provide NSTAC members with an update of the implementation of the Cybersecurity Act of 2015.

Dated: April 20, 2016.
Helen Jackson,
Designated Federal Officer for the NSTAC.

[FR Doc. 2016-09668 Filed 4-25-16; 8:45 am]

BILLING CODE 9110-09-P